DEPARTMENT OF HEALTH AND HUMAN SERVICES

National Institutes of Health

Center for Scientific Review; Amended Notice of Meeting

Notice is hereby given of a change in the meeting of the Center for Scientific Review Special Emphasis Panel: Innate Immunity and Inflammation, October 13, 2021, 09:00 a.m. to October 13, 2021, 08:00 p.m., National Institutes of Health, Rockledge II, 6701 Rockledge Drive, Bethesda, MD, 20892 which was published in the Federal Register on September 10, 2021, FR Doc 2021-19560, 86 FR 50718.

This notice is being amended to change the panel name of the Center for Scientific Review Special Emphasis Panel: Innate Immunity and Inflammation to Innate Immunity and Inflammatory Responses. The meeting is closed to the public.

Dated: September 28, 2021.
Miguelina Perez,
Program Analyst, Office of Federal Advisory Committee Policy.

[FR Doc. 2021-21454 Filed 10-1-21; 8:45 am]

BILLING CODE 4140-01-P